DEPARTMENT OF THE INTERIOR

National Park Service

Extension of Comment Period for an Environmental Assessment and Plan of Operations for Oil and Gas Exploration (Plan) Within Big Cypress National Preserve, Florida

AGENCY: National Park Service; Interior.

SUMMARY: The Preserve published a Federal Register Notice on December 14, 1999, announcing the availability of the Environmental Assessment (EA) and Plan of Operations for comment and public review. At the request of the applicant, the review period has been extended until February 21, 2000. The Plan was submitted pursuant to Title 36 of the Code of Federal Regulations, Part 9, Subpart B (36 CFR 9B). The National Park Service has prepared an Environmental Assessment in accordance with the National Environmental Policy Act to evaluate the proposed activity.

DATES: The Plan and EA are available for public review at Preserve Headquarters in Ochopee, FL. Copies of the EA can be requested at the address below. Written comments should be submitted to: Superintendent, Big Cypress National Preserve, HCR 61 Box 110, Ochopee, FL 34141; Telephone: (941) 695-2000, extension 325.

Our practice is to make comments, including names and home addresses of respondents, available for public review during regular business hours. Individual respondents may request that we withhold their home address from the rulemaking record, which we will honor to the extent allowable by law. There also may be circumstances in which we would withhold from the rulemaking record a respondent's identity, as allowable by law. If you wish for us to withhold your name and/or address, you must state this prominently at the beginning of your comments. We will make all submissions from organizations or businesses, and from individuals identifying themselves as representatives or officials of organizations or businesses, available for public inspection in their entirety.

SUPPLEMENTARY INFORMATION: The Plan calls for the construction of approximately 8 miles of road, a drilling pad, drilling an exploratory well and conducting a 41-square mile, three-dimensional geophysical survey. In 1992, the National Park Service finalized a Minerals Management Plan (MMP) for the Preserve. The MMP along with other appropriate laws and regulations provide the framework for assessing proposals from owners of non-federal oil and gas rights. The MMP was evaluated as part of the Preserve's General Management Plan/Environmental Impact Statement.

The EA for the Plan of Operations evaluates three alternatives: (1) Denial of the Plan of Operations; (2) approval of the Plan as submitted; and (3) approval of the Plan with stipulations.

Dated: February 11, 2000.
Daniel W. Brown,
Acting Regional Director, Southeast Region.

[FR Doc. 00-4832 Filed 2-29-00; 8:45 am]

BILLING CODE 4310-70-M